DEPARTMENT OF THE INTERIOR

National Park Service

Notice of Intent to Repatriate Cultural Items: U.S. Department of the Interior, Bureau of Land Management, Buffalo Field Office, Buffalo, WY

AGENCY: National Park Service, Interior.

ACTION: Notice.

Notice is here given in accordance with the Native American Graves Protection and Repatriation Act (NAGPRA), 25 U.S.C. 3005, of the intent to repatriate cultural items in the possession of the U.S. Department of the Interior, Bureau of Land Management, Buffalo Field Office, Buffalo, WY, that meet the definition of “unassociated funerary objects” under 25 U.S.C. 3001.

This notice is published as part of the National Park Service's administrative responsibilities under NAGPRA, 25 U.S.C. 3003 (d)(3). The determinations in this notice are the sole responsibility of the Federal agency that has control of the cultural items. The National Park Service is not responsible for the determinations in this notice.

In 1986, human remains and cultural items were removed from a site adjacent to the location of the Dull Knife Battle, Johnson County, WY. The Bureau of Land Management, Buffalo Field Office, was required to analyze potential impacts from a proposed Federal action pursuant to Section 106 of the National Historic Preservation Act on a known burial site located on Bureau of Land Management public lands. The burial is adjacent to the location of the Dull Knife Battle of November 1876 between the U.S. Cavalry and a camp of Northern Cheyenne. The close proximity of the burial to the battle ground suggests a direct association. On June 29, 1987, the interment was removed and analyzed in the field. Osteological analysis showed that the human remains were of an adult female of Native American descent. The human remains and associated sediments were replaced into the original location. However, 15 funerary objects were removed for analysis, and subsequently stored in the Buffalo Field Office. The 15 funerary objects are 1 brown wool fabric fragment (appears to be from the late 19th century); 2 brown wool fragments from a horse blanket (appears to be from the 19th century); 7 blue wool fragments (appears to be from an 1876-era U.S. Army blanket); 1 red and white striped cotton fabric fragment; 2 tanned leather fragments; 1 fragment of rawhide or un-tanned leather; and 1 wood fragment.

A detailed assessment of the funerary objects was made by the Bureau of Land Management, Buffalo Field Office staff in consultation with the Northern Cheyenne Tribe of the Northern Cheyenne Indian Reservation, Montana. Based on the close proximity of the burial to the Dull Knife Battle of 1876, historical evidence that the Northern Cheyenne were party to this battle, and that the funerary objects are likely contemporaneous with this battle, the officials of the Bureau of Land Management have reasonably determined that the burial and the funerary objects belong to a Northern Cheyenne participant in this battle. Descendants of the Northern Cheyenne are members of the Northern Cheyenne Tribe of the Northern Cheyenne Indian Reservation, Montana.

Officials of the Bureau of Land Management have determined that, pursuant to 25 U.S.C. 3001 (3)(B), the 15 cultural items described above are reasonably believed to have been placed with or near individual human remains at the time of death or later as part of the death rite or ceremony and are believed, by a preponderance of the evidence, to have been removed from a specific burial site of a Native American individual. Officials of the Bureau of Land Management also have determined that, pursuant to 25 U.S.C. 3001 (2), there is a relationship of shared group identity that can be reasonably traced between the unassociated funerary objects and the Northern Cheyenne Tribe of the Northern Cheyenne Indian Reservation, Montana.

Representatives of any other Indian tribe that believes itself to be culturally affiliated with the unassociated funerary objects should contact Chris Hanson, Bureau of Land Management, Buffalo Field Office, 1425 Fort Street, Buffalo, WY 82834, telephone (307) 684-1141, before September 29, 2008. Repatriation of the unassociated funerary objects to the Northern Cheyenne Tribe of the Northern Cheyenne Indian Reservation, Montana may proceed after that date if no additional claimants come forward.

The Bureau of Land Management is responsible for notifying the Northern Cheyenne Tribe of the Northern Cheyenne Indian Reservation, Montana that this notice has been published.

Dated: August 5, 2008.
Sherry Hutt,
Manager, National NAGPRA Program.

[FR Doc. E8-20089 Filed 8-28-08; 8:45 am]

BILLING CODE 4312-50-S